MORRIS K. UDALL AND STEWART L. UDALL FOUNDATION

Agency Information Collection Activities: Proposed Collection; Comment Request: See List of Evaluation Related ICRs Planned for Submission to OMB in Section A

AGENCY: Morris K. Udall and Stewart L. Udall Foundation, U.S. Institute for Environmental Conflict Resolution.

ACTION: Notice.

SUMMARY: In compliance with the Paperwork Reduction Act (44 U.S.C. 3501 et seq.), this document announces that the U.S. Institute for Environmental Conflict Resolution (the U.S. Institute), part of the Udall Foundation, is planning to submit seven Information Collection Requests (ICRs) to the Office of Management and Budget (OMB). All seven ICRs seek revisions to currently approved collections due to expire 12/31/2011 (OMB control numbers 3320-0003, 3320-0004, 3320-2005, 3320-0006, 3320-0007, 3320-0009 and 3320-0010). The seven ICRs are consolidated under a single filing to provide a more coherent picture of information collection activities designed primarily to measure performance. The proposed collections are necessary to support program evaluation activities. The collection is not expected to have a significant economic impact on respondents or to affect a substantial number of small entities.

Before submitting the ICRs to OMB for review and approval, the U.S. Institute requests comments on specific aspects of the proposed information collection as described at the beginning of the section labeled SUPPLEMENTARY INFORMATION.

Supporting statements for the proposed paperwork collections can be downloaded from the Institute's Web site http://ecr.gov/Resources/EvaluationProgram.aspx. Paper copies can be obtained from Patricia Orr, Director of Policy, Planning and Budget, U.S. Institute for Environmental Conflict Resolution, 130 South Scott Avenue, Tucson, Arizona 85701, Fax: 520-670-5530, Phone: 520-901-8548, E-mail: orr@ecr.gov.

DATES: Comments must be submitted on or before September 26, 2011.

ADDRESSES: Submit your comments, referencing this Federal Register Notice, by e-mail to orr@ecr.gov, or by fax to 520-670-5530, or by mail to the attention of Patricia Orr, Director of Policy, Planning and Budget, U.S. Institute for Environmental Conflict Resolution, 130 South Scott Avenue, Tucson, Arizona 85701.

SUPPLEMENTARY INFORMATION:

Overview

To comply with the Government Performance and Results Act (GPRA) (Pub. L. 103-62), the U.S. Institute, as part of the Udall Foundation, produces an Annual Performance Budget and an Annual Performance and Accountability Report, linked directly to the goals and objectives outlined in the Institute's five-year Strategic Plan. The U.S. Institute's evaluation system is key to evaluating progress towards its performance goals. The U.S. Institute is committed to evaluating all of its projects, programs and services to measure and report on performance and also to use this information to learn from and improve its services. The refined evaluation system has been carefully designed to support efficient and economical generation, analysis and use of this much-needed information, with an emphasis on performance measurement, learning and improvement.

As part of the program evaluation system, the U.S. Institute intends to collect specific information from participants in, and users of, several of its programs and services. Specifically, this Federal Notice covers seven programs and services: (1) Conflict assessment services; (2) environmental conflict resolution (ECR) and collaborative problem solving mediation services; (3) ECR and collaborative problem solving facilitation services; (4) training services; (5) facilitated meeting services; (6) roster program services; and (7) program support and services. Evaluations mainly involve administering questionnaires to process participants and professionals, as well as members and users of the National Roster. Responses by members of the public to the Institute's request for information (i.e., questionnaires) are voluntary.

In 2003, the Office of Management and Budget (OMB) approved the U.S. Environmental Protection Agency, Conflict Prevention and Resolution Center (CPRC) to act as a named administrator of the U.S. Institute's currently approved information collections for evaluation. In 2008, OMB granted similar status to the U.S. Department of the Interior, Office of Collaborative Action and Dispute Resolution (CADR). The U.S. Institute, CPRC and CADR will seek approval as part of this proposed collection to continue this evaluation partnership. The U.S. Institute will also request that the U.S. Army Corps of Engineers, Conflict Resolution and Public Participation Center (CPC) be added as an additional named administrator. Since other agencies have periodically approached the U.S. Institute seeking evaluation assistance, the U.S. Institute will also request OMB approval to continue to administer the evaluation questionnaires on behalf of other agencies. The burden estimates in the ICRs take into consideration the multi-agency usage of the evaluation instruments.

Key Issues

The U.S. Institute invites comments that can be used to:

i. Evaluate whether the proposed collection of information is necessary for the proper performance of the U.S. Institute, including whether the information will have practical utility;

ii. Enhance the quality, utility, and clarity of the information to be collected;

iii. Minimize the burden of the information collection on respondents, including suggestions concerning use of automated collection techniques or other forms of information technology.

Section A. Information on Individual ICRs:

1. Conflict Assessment Services

Type of Information Collection: Revision of a currently approved collection.

Title of Information Collection: Program Evaluation Instruments for Conflict Assessment Services.

OMB Number: 3320-0003.

Affected Public: Individuals or households, business or other for-profit, not-for-profit, federal and state, local or tribal government.

Frequency: One time.

Annual Number of Respondents: 430.

Total Annual Responses: 430.

Average Burden per Response: 5 minutes.

Total Annual Hours: 36.00.

Total Burden Cost: $1,700.00.

2. ECR and Collaborative Problem Solving Mediation Services

Type of Information Collection: Revision of a currently approved collection.

Title of Information Collection: Program Evaluation Instruments for ECR and Collaborative Problem Solving Mediation Services.

OMB Number: 3320-0004.

Affected Public: Individuals or households, business or other for-profit, not-for-profit, federal and state, local or tribal government.

Frequency: One time.

Annual Number of Respondents: 1,975.

Total Annual Responses: 1,975.

Average Burden per Response: 18 minutes.

Total Annual Hours: 596.00.

Total Burden Cost: $27,964.00.

3. ECR and Collaborative Problem Solving Facilitation Services

Type of Information Collection: Revision of a currently approved collection.

Title of Information Collection: Program Evaluation Instruments for ECR and Collaborative Problem Solving Facilitation Services.

OMB Number: 3320-0010.

Affected Public: Individuals or households, business or other for-profit, not-for-profit, federal and state, local or tribal government.

Frequency: One time.

Annual Number of Respondents: 1,975.

Total Annual Responses: 1,975.

Average Burden per Response: 12 minutes.

Total Annual Hours: 404.00.

Total Burden Cost: $19,036.00.

4. Training Services

Type of Information Collection: Revision of a currently approved collection.

Title of Information Collection: Program Evaluation Instruments for Training Services.

OMB Number: 3320-0006.

Affected Public: Individuals or households, business or other for-profit, not-for-profit, federal and state, local or tribal government.

Frequency: One time.

Annual Number of Respondents: 1,560.

Total Annual Responses: 1,560.

Average Burden per Response: 5.5 minutes.

Total Annual Hours: 143.

Total Burden Cost: $6,721.

5. Facilitated Meeting Services

Type of Information Collection: Revision of a Currently Approved Collection.

Title of Information Collection: Program Evaluation Instruments for Facilitated Meeting Services.

OMB Number: 3320-0007.

Affected Public: Individuals or households, business or other for-profit, not-for-profit, federal and state, local or tribal government.

Frequency: One time.

Annual Number of Respondents: 3,000.

Total Annual Responses: 3,000.

Average Burden per Response: 5 minutes.

Total Annual Hours: 252.

Total Burden Cost: $11,752.

6. Roster Program Services

Type of Information Collection: Revision of a currently approved collection.

Title of Information Collection: Program Evaluation Instruments for Roster Program Services.

OMB Number: 3320-0005.

Affected Public: Business or other for-profit, not-for-profit, federal and state, local or tribal government.

Frequency: One time.

Annual Number of Respondents: 550.

Total Annual Responses: 550.

Average Burden per Response: 3.5 minutes.

Total Annual Hours: 32.

Total Burden Cost: $1,488.

7. Program Support Services

Type of Information Collection: Revision of a currently approved collection.

Title of Information Collection: Program Evaluation Instruments for Program Support Services.

OMB Number: 3320-0009.

Affected Public: Business or other for-profit, not-for-profit, federal and state, local or tribal government.

Frequency: One time.

Annual Number of Respondents: 40.

Total Annual Responses: 40.

Average Burden per Response: 5.

Total Annual Hours: 3.33.

Total Burden Cost: $157.

Authority: 20 U.S.C. 5601-5609.

Dated: July 18, 2011.
Ellen Wheeler,
Executive Director, Udall Foundation.

[FR Doc. 2011-18769 Filed 7-25-11; 8:45 am]

BILLING CODE 6820-FN-P